DEPARTMENT OF HEALTH AND HUMAN SERVICES

Centers for Disease Control and Prevention

The Committee on Immunization Registry Standards and Electronic Transactions and the American Immunization Registry Association Sponsored Meeting of Software Vendors for Healthcare Providers: Meeting

Name: Meeting with software vendors for healthcare providers sponsored by the Committee on Immunization Registry Standards and Electronic Transactions and the American Immunization Registry Association.

Time and Date: 10 a.m.-1 p.m., July 12, 2001.

Place: Arkansas' Excelsior Hotel, Three Statehouse Plaza, Little Rock, Arkansas 72201, telephone 501-375-5000.

Status: Open to the public, including all software vendors for healthcare providers, limited only by the space available. The meeting room accommodates approximately 200 people.

Purpose: Immunization Registries Issue Invitation to Vendors of Software for Healthcare Providers

The Committee on Immunization Registry Standards and Electronic Transactions(CIRSET), in cooperation with the American Immunization Registry Association (AIRA), invites vendors of healthcare software systems to participate in a meeting on July 12, 2001, from 10:00 a.m. to 1:00 p.m., in conjunction with the Annual Immunization Registry Conference being held at the Arkansas' Excelsior Hotel in Little Rock, AK. The meeting will explore the potential for two-way data exchange between provider software and state and community immunization registries, as envisioned by CIRSET, AIRA, the Centers for Disease Control and Prevention's National Immunization Program (NIP), and state and local immunization registry programs.

Challenge

Immunization registries face technical challenges similar to those faced by most of the healthcare industry today—how to enable communication among numerous disparate systems. Registries have been developed by a number of different entities—managed care organizations, independent software vendors, states, cities, counties, and local communities.

The developers of these registries chose the hardware and software support platforms that worked best within their own systems, but the resulting applications cannot communicate with each other except through expensive, custom interfaces.

Traditionally, these practices have caused vendors of practice management systems to have difficulty implementing immunization record exchange because each immunization registry had a different vision, format, and protocol for data exchange. This problem has been addressed using a national standard for electronic data exchange, Health Level Seven. The standard was used to develop an implementation guide for immunization data exchange entitled, “Implementation Guide for Immunization Data Transactions Using Version 2.3.1 of the Health Level Seven (HL7) Standard Protocol,” June 1999 (Guide). This Guide is the result of collaboration by a number of immunization registry developers who acknowledge the value of standardized data exchange and are ready to implement data exchange among registries. The Guide defines registry specific messages in detail, showing a range of fully valued messages that carry a complete complement of immunization data. The Guide also defines a “minimum standard message” that could be implemented by a non-clinical system to communicate with a registry. A minimum amount of data could be saved to a file in a standard HL7 format, creating a batch of updates for the provider to send to the registry on a periodic basis. The minimum message consists of core demographic and vaccine event data elements plus values for additional HL7-required fields. These are defined and examples provided in the Guide.

Differences in interpretations, acceptable codes, and definitions have been resolved by consensus. Registries agree that all will benefit if they adhere to one national standard implementation guide that can be available to both registries and software vendors of provider systems. One vendor explained that, with one national implementation, vendors would be more ready to incorporate it into the clinical or computer-based patient record systems they were building or upgrading. Another vendor advised that, even though his product was strictly a billing system, he believed it would be possible to extract the needed data and save it to a file as services were performed in the clinic. That file could be forwarded to the registry, eliminating the need for redundant data entry. A standard implementation allows vendors to assure their customers of compatibility among all participating systems. Just as importantly, implementing a national standard that is already in use in a large number of healthcare systems can save time and money for all involved parties.

The Future

Continuing collaboration to ensure that implementation plans meet messaging requirements will enable registry developers, vaccination providers, and vendors of physician systems to achieve interoperability not previously possible. The core data set, current vaccine and vaccine manufacturers' code sets, and the HL7 immunization messaging implementation guide are available on the NIP website at www.cdc.gov/nip/registry.

Matters To Be Discussed:

Agenda items include:

• Introduction to Registries

• Introduction to CIRSET and immunization data exchange

—Why registries need standards

—Which registries are participating

—What was done historically

—Status of standards and HL7

• Needs of Immunization Registries

• CDC's Role—Guidelines and Coordination

• Vendor Opportunities

• Open Discussion of Solutions and Problems

• Next Steps

Agenda items are subject to change as priorities dictate.

Contact Person for More Information: Susan Abernathy or Julie Gamez, Program Analysts, Systems Development Branch, Data Management Division, National Immunization Program, CDC, 1600 Clifton Road, NE, M/S E-62, Atlanta, Georgia 30333, telephone 404/639-8245, fax 404/639-8171.

The Director, Management Analysis and Services office has been delegated the authority to sign Federal Register notices pertaining to announcements of meetings and other committee management activities, for both the Centers for Disease Control and Prevention and the Agency for Toxic Substances and Disease Registry.

Dated: February 21, 2001.
John Burckhardt,
Acting Director, Management Analysis and Services Office, Centers for Disease Control and Prevention.

[FR Doc. 01-4720 Filed 2-26-01; 8:45 am]

BILLING CODE 4163-18-P